DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of March and April, 2000.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,332 & A; Shelby Yarn Co. Including All Locations in Shelby, NC and Cherryville, NC

TA-W-37,331; Vesuvius Premier Refractories, Washington, PA

TA-W-37,384; FNA Acquisitions, d/b/a Superba, Mooresville, NC

TA-W-37,239; DeZurik Corp., McMinnville, TN

TA-W-37,295; Hylton House Furniture, Kenbridge, VA

TA-W-37,134; Advanced Manufacturing and Developing, Inc., Willits, CA

TA-W-37,116; Falcon Foundry Co., Lowellville, OH

TA-W-37,401; Arbor Acres, Carthage, MS

TA-W-37,327; Energy Knits, Denver, PA

TA-W-37,294; Ball Foster Glass Container Co LLC, Marion, IN

TA-W-37,382; Alaska Petroleum Contractor, Alpine Project Kenai, Kenai, AK

In the following cases, the investigation revealed that the criteria for eligibility have not been met for the reasons specified.

TA-W-37,473; Far East International, Huntington Beach, CA

TA-W-37,464; Republic Supply Co., Sidney, MT

TA-W-37,456; General Electric Engine Services, Inc., Ontario, CA

TA-W-37,339 & A; Cominco LTD, Glenbrook Operations, Riddle, OR and Coos Bay, OR

TA-W-37,415; Parker Drilling Co., Tulsa, OK

TA-W-37,420; Western Gas Resources, Midkiff, TX

TA-W-37,400; Renfro Corp., South Pittsburg, TN

TA-W-37,371; Burlington Industries, Burlington Industries Transportation, Belmont, NC

TA-W-37,319; Furon Co., Laguna Niguel, CA

TA-W-37,489; Hasbro Manufacturing Services, El Paso, TX

The workers firm does not produce an article as required for certification under Section 222 of the Trade Act of 1974.

TA-W-37,462; Brandon Manufacturing, Inc., Shreveport, LA

TA-W-37,429; Bassett Furniture Industries of North Carolina, Upholstery Div., Dumas, AR

TA-W-37,379; Emerson Electric Co., Air Moving Motor Div., Rogers, AR

TA-W-37,446; Mulay Plastics, Casa Grande, AZ

TA-W-37,437; Elliott Turbomachinery, Jeannette, PA

TA-W-37,405; GCC Cutting, Inc., El Paso, TX

TA-W-37,486; Down River Forest Products, Inc., Woodland, WA

TA-W-37,284; Martin Mills Inc., Sewing Dept., St. Martinville, LA

TA-W-37,340; Alltex Laminating Corp., Mount Vernon, NY

TA-W-37,260; L.P.F. Apparel Corp., New York, NY

TA-W-37,176; Intersil Corp., Findlay, OH

TA-W-37,368; ITT Industries—Jabsco, Springfield, OH

TA-W-37,492; ISO Electronics, Inc., Indianapolis, IN

Increased imports did not contribute importantly to worker separations at the firm.

TA-W-37,337; G & M Cutting Services of El Paso, Inc., El Paso, TX

The investigation revealed the criteria (1) and criteria (2) have not been met. A significant number of proportion of the workers did not become totally or partially separated from employment as required for certification. Sales or production did not decline during the relevant period as required for certification.

TA-W-37,152; Goss Graphics Systems, Inc., Wyomissing, PA

The investigation revealed that criteria (1) and criteria (3) have not been met. A significant number or proportion of the workers did not become totally or partially separated from employment as required for certification. Increases of imports of articles like or directly competitive with articles produced by the firm or an appropriate subdivision have not contributed importantly to the separations of threat thereof, and the absolute decline in sales or production.

Affirmative Determinations for Worker Adjustment Assistance

The following certifications have been issued; the date following the company name and location of each determination references the impact date for all workers of such determination.

TA-W-37,105; Weiser Lock, A Masco Subsidiary, Tucson, AZ: November 19, 1998.

TA-W-37,417; Microtek Medical, Inc., Columbus, MS: February 16, 1999.

TA-W-37,245; Pioneer Wear, Albuquerque, NM: December 30, 1998.

TA-W-37,285; R.L.F. Neckwear, Inc., Belleville, NJ: January 11, 1999.

TA-W-37,237: International Paper Co., Natchez Mill, Natchez, MS: December 13, 1998.

TA-W-37,230; E-Town Sportswear Corp., Elizabethville, KY: December 29, 1998.

TA-W-37,236; Chicago Pneumatic Tool Co., Rock Hill, SC: December 15, 1998.

TA-W-37,298; Apparel Specialists, Inc., Green Bay, WI: January 14, 1999.

TA-W-37,338 & A, B, C, D & E; Johnstown Knitting Mill Co., Glenfield Div., Glenfield, NY, Montgomery St. Div., Johnstown, NY, Comrie Ave. Div., Johnstown, NY, Fort Plain Div., Fort Plain, NY, New York City Div., NY, NY, and The Diana Knitting Corp., Johnstown, NY: February 3, 1999.

TA-W-37,375; Mitec Wireless, Inc., Tinton Falls, NJ: January 21, 1999.

TA-W-37,273; Cumberland Apparel, Monticello, KY: January 10, 1999.

TA-W-37,379; Sterling Diagnostic Imaging, Inc., Brevard, NC: January 6, 1999.

TA-W-37,385; Kryptonite Corp., Canton, MA: February 7, 1999.

TA-W-37,064; Val Originals, Inc., Providence, RI: October 30, 1998.

TA-W-37,336; ISA Cutting Room Service, El Paso, TX: February 4, 1999.

TA-W-37,411 & A; The Monet Group, Inc., West Providence, RI; and New York, New York: May 5, 2000.

TA-W-37,410; Trico Products, Lawrenceburg, TN: February 4, 1999.

TA-W-37,396; Elliott Corp., Gillett, WI: February 10, 1999.

TA-W-37,399; Tanner Companies Limited Partnership, Manufacturing Div., Rutherfordton, NC: February 16, 1999.

TA-W-37,226; Burgett Geothermal Greenhouse, Inc., Animas, NM: December 28, 2000.

TA-W-37,440; Terry Products, Inc., Kannapolis, NC: March 2, 1999.

TA-W-37,335; Calvin Klein, New York, NY: February 1, 1999.

TA-W-37,215; Item House, Inc., Tacoma, WA: December 15, 1998.

TA-W-37,353; Danskin, Inc., York, PA: February 1, 1999.

TA-W-37,219; The Boeing Co., Melbourne, AR: December 20, 1998.

TA-W-37,280; The John Plant Co., Ramseur, NC: January 13, 1999.

TA-W-37,263; Fayette Glove Co, d/b/a Best Manufacturing, Fayette, AL: January 11, 1999.

TA-W-37,386; Southside Sportswear, Inc., Florence, SC: February 15, 1999.

TA-W-37,374; T&K Manufacturing, Inc., Brownstown, PA: February 7, 1999.

TA-W-37,323; Russell T. Bundy Associates, Inc., d/b/a/ Durashield USA, Sunbury, OH: January 28, 1999.

TA-W-37,310; Boyt Harness Co LLC, Bob Allen Sportswear Div., Arlington, SD: January 18, 1999

TA-W-37,312; Florence Eiseman, Inc., Milwaukee, WI: January 18, 1999.

TA-W-37,388; Sullivan Die Castings, Inc., Kenilworth, NJ: February 9, 1999.

TA-W-37,449; New River Apparel, Fries, VA: February 28, 1999.

TA-W-37,342; Assembly USA, Inc., Macon, MO: February 3, 1999.

TA-W-37,451 & A; Cross Creek Apparel, Inc., Mt Airy, NC and Walnut Cove, NC: February 21, 1999.

TA-W-37,349; RNV Apparel, Inc., Shade Gap, PA: February 1, 2000.

TA-W-37,317; Sewell Clothing Co., Inc., Temple, GA: January 26, 1999.

TA-W-37,434 & A; Bula, Inc., Durango CO and Montezuma Creek, UT: February 24, 1999.

TA-W-37,478; Hartwell Industries, Hartwell Sports, Hartwell, GA: February 25, 1999.

TA-W-37,309; A & B; Wharton Knitting Mills, Inc., Knitting Dept., Ridgewood, NY, Sewing Dept, Ridgewood, NY and Rita Knitting Mills, Ridgewood, NY: January 20, 1999.

TA-W-37,516; Finishing 2000 LLC, El Paso, TX: March 14, 1999.

TA-W-37,467; Hartz and Co., Inc., Oakloom Plant, Baltimore, MD: March 6, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of March and April, 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03685; ASC Incorporated, Rancho Dominguez, CA

NAFTA-TAA-03709; Boyt Harness Co LLC, Bob Allen Sportswear Div., Arlington, SD

NAFTA-TAA-03702 & A; Shelby Yarn Co., Including all Locations in Shelby, NC and Cherryville, NC

NAFTA-TAA-03658; Martin Mills, Inc., Sewing Dept., St. Martinville, LA

NAFTA-TAA-03642; DeZurik Corporation, McMinnville, TN

NAFTA-TAA-03731; Renewable Energies, Inc., Slatyfork, WV

NAFTA-TAA-03765; Bassett Furniture Industries of North Carolina, Upholstery Div., Dumas, AR

NAFTA-TAA-03771 & A; Bula, Inc., Durango, CO and Montezuma Creek, UT

NAFTA-TAA-03774; Brandon Manufacturing, Inc., Shreveport, LA

NAFTA-TAA-03716; A&B; Wharton Knitting Mills, Inc., Knitting Dept., Ridgewood, NY, Sewing Dept., Ridgewood, NY and Rita Knitting Mills, Inc., Ridgewood, NY.

NAFTA-TAA-03797; Raytheon Systems Co., Microwave Div., El Sugundo, CA.

NAFTA-TAA-03788; ISO Electronics, Inc., Indianapolis, IN.

NAFTA-TAA-03650; Ball Foster Glass Container Co., LLC, Marion, IN.

The investigation revealed that the criteria for eligibility have not been met for the reasons specified.

NAFTA-TAA-3719; Burlington Industries, Burlington Industries Transportation, Belmont, NC.

NAFTA-TAA-03742; Target Retail Store, Mt. Carmel, IL.

The investigation revealed that workers of the subject firm did not produce an article within the meaning of Section 250(a) of the Trade Act, as amended.

NAFTA-TAA-03715; G&M Cutting Services of El Paso, Inc., El Paso, TX.

The investigation revealed that criteria (1) and criteria (2) have not been met. A significant number or proportion of the workers in such workers' firm or an appropriate subdivision (including workers in any agricultural firm or appropriate subdivision thereof) have become totally or partially separated from employment. Sales or production did not decline during the relevant period as required for certification.

Affirmative Determinations NAFTA-TAA

NAFTA-TAA-03606; Nucor Corp., Nucor Fastener Div., Conway, AR: November 12, 1998.

NAFTA-TAA-03695; The Eureka Co., Div. of White Consolidated Industries, Inc., Bloomington, IL: January 4, 1999.

NAFTA-TAA-03726; Trico Products, Lawrenceburg, TN: January 29, 1999.

NAFTA-TAA-03779; Atessa, Inc., Philadelphia, PA: March 2, 1999.

NAFTA-TAA-03739; Southside Sportswear, Inc., Florence, SC: February 15, 1999.

NAFTA-TAA-03678; The John Plant Co., Ramseur, NC: January 13, 1999.

NAFTA-TAA-03737; Elloit Corp., Gillett, WI: February 10, 1999.

NAFTA-TAA-03734; FNA Acquisitions, d/b/a Superba, Mooresville, NC: February 18, 1999.

NAFTA-TAA-03673; Apparel Specialists, Inc., Green Bay, WI: January 14, 1999.

NAFTA-TAA-03753; GCC Cutting, El Paso, TX: January 19, 1999.

NAFTA-TAA-03783; Link Door Controls, Inc., Ronkonkoma, NY: February 4, 1999.

NAFTA-TAA-03757; A,B,C,D, & E; Conoco, Inc., Oklahoma City, OK & Operating in the Following Locations: Hennessay, OK, Cashion, OK, Tuttle, OK, Carney, OK and Washington, OK: February 23, 1999.

NAFTA-TAA-03785 & A; Cross Creek Apparel, Inc., Mt. Airy, NC and Walnut Cove, NC: February 21, 1999.

NAFTA-TAA-03760; Burnsville Apparel Co., Wadesboro, NC: February 17, 1999.

NAFTA-TAA-03749; Emerson Electric Co., Air Moving Motor Div., Rogers, AR: February 3, 1999.

NAFTA-TAA-03686; General Electric Co., Industrial Systems, Tell City, IN: August 25, 1998.

NAFTA-TAA-03800; Hartwell Industries, Hartwell Sparts, Hartwell, GA: February 25, 1999.

NAFTA-TAA-03832; Finishing 2000 LLC, El Paso, TX: March 14, 1999.

NAFTA-TAA-03759; John Clark, Inc., Denver, CO: February 23, 1999.

NAFTA-TAA-03784; Eastman Kodak Co., Color Film Mfg-Commercial/Professional Finishing Div., Graphics Workcenter, Rochester, NY: February 25, 1999.

NAFTA-TAA-03710; United States Leather, Inc., Pfister & Vogel Leather, Milwaukee, WI: February 4, 1999.

I hereby certify that the aforementioned determinations were issued during the month of March and April, 2000. Copies of these determinations are available for inspection in Room C-4318, U.S. Department of Labor, 200 Constitution Avenue, NW., Washington, DC 20210 during normal business hours or will be mailed to persons who write to the above address.

Dated: April 13, 2000.
Grant D. Beale,
Program Manager, Division of Trade Adjustment Assistance.

[FR Doc. 00-9970 Filed 4-20-00; 8:45 am]

BILLING CODE 4510-30-M